DEPARTMENT OF COMMERCE

International Trade Administration

[C-489-806]

Certain Pasta From Turkey: Final Results of the Expedited Fourth Sunset Review of the Countervailing Duty Order

AGENCY: Enforcement and Compliance, International Trade Administration, Department of Commerce.

SUMMARY: The Department of Commerce (Commerce) finds that revocation of the countervailing duty (CVD) order on certain pasta from Turkey would be likely to lead to continuation or recurrence of a countervailable subsidy at the levels indicated in the “Final Results of Review” section of this notice.

DATES: Applicable December 5, 2018.

FOR FURTHER INFORMATION CONTACT: Aimee Phelan or Mary Kolberg at (202) 482-0697 or (202) 482-1785, respectively; AD/CVD Operations, Office I, Enforcement and Compliance, International Trade Administration, U.S. Department of Commerce, 1401 Constitution Avenue NW, Washington, DC 20230.

SUPPLEMENTARY INFORMATION:

Background

On July 24, 1996, Commerce published the CVD order on certain pasta from Turkey.¹ On August 1, 2018, Commerce published the notice of initiation of the fourth sunset review of this order, pursuant to section 751(c)(2) of the Tariff Act of 1930, as amended (the Act).² On August 16, 2018, Commerce received a notice of intent to participate from A. Zerega's Sons, Inc. (Zerega), Dakota Growers Pasta Company, Inc. (Dakota Growers), Riviana Foods, Inc. (Riviana) (formerly, New World Pasta Company),³ and TreeHouse Foods, Inc. (TreeHouse) (formerly, The American Italian Pasta Company) ⁴ within the deadline specified in 19 CFR 351.218(d)(1)(i).⁵ Zerega, Dakota Growers, Riviana, and TreeHouse claimed interested party status under section 771(9)(C) of the Act as producers of pasta in the United States.⁶

¹ See Notice of Countervailing Duty Order: Certain Pasta (“Pasta”) From Turkey, 61 FR 38546 (July 24, 1996) (Order); see also Final Affirmative Countervailing Duty Determination: Certain Pasta (“Pasta”) from Turkey, 61 FR 30366 (June 14, 1996) (Final Determination).

² See Initiation of Five-Year (Sunset) Reviews, 83 FR 37463 (August 1, 2018).

³ New World Pasta Company merged into Riviana Foods Inc. effective January 1, 2017.

⁴ The American Italian Pasta Company was acquired by TreeHouse Foods in February 1, 2016.

⁵ See Letter from Zerega, Dakota Growers, Riviana, and Treehouse, “Five-Year (Sunset) Review of the Countervailing Duty Order on Certain Pasta from Turkey—Domestic Interested Parties' Notice of Intent to Participate,” dated August 16, 2018 (Domestic Parties' Notice of Intent to Participate).

⁶ See Letter from Domestic Interested Parties, “Five-Year (Sunset) Review of the Countervailing Duty Order on Certain Pasta from Turkey—Domestic Interested Parties' Notice of Intent to Participate,” August 16, 2018. As domestic producers of certain pasta, the petitioners are interested parties to this proceeding pursuant to section 771(9)(C) of the Act.

On August 31, 2018, Commerce received an adequate substantive response to the notice of initiation from domestic interested parties within the 30-day deadline specified in 19 CFR 351.218(d)(3)(i).⁷ On August 31, 2018, Commerce also received a substantive response from the Government of Turkey (GOT).⁸ However, we received no substantive responses from respondent interested parties who are producers or exporters of merchandise subject to the order covered by this sunset review. A government's response alone, normally, is not sufficient for Commerce to conduct a full sunset review, unless the investigation was conducted on an aggregate basis.⁹ This investigation was conducted on a company-specific, rather than an aggregate, basis.

⁷ See Letter from the petitioner, “Certain Pasta from Turkey—Five-Year (“4th Sunset”) Review of Countervailing Duty Order,” dated August 31, 2018 (Petitioners' Substantive Response).

⁸ See Letter from the GOT, “Substantive Response of the Government of Turkey in the Countervailing Duty 4th Sunset Review Involving Certain Pasta from Turkey,” dated August 31, 2018 (GOT substantive response).

⁹ See, e.g., Certain Pasta from Turkey: Final Results of Expedited Five-Year (“Sunset”) Review of the Countervailing Duty Order, 72 FR 5269 (February 5, 2007); Certain Carbon Steel Products from Sweden: Final Results of Expedited Sunset Review of Countervailing Duty Order, 65 FR 18304 (April 7, 2000).

On September 20, 2018, Commerce notified the U.S. International Trade Commission that it did not receive an adequate substantive response from respondent interested parties.¹⁰ As a result, pursuant to 751(c)(3)(B) of the Act and 19 CFR 351.218(e)(1)(ii)(C)(2), Commerce has conducted an expedited (120-day) sunset review of the CVD order on certain pasta from Turkey.

¹⁰ See Letter re: “Sunset Reviews Initiated on August 1, 2018,” dated September 20, 2018.

Scope of the Order

The scope of the CVD order consists of certain non-egg dry pasta in packages of five pounds (or 2.27 kilograms) or less, whether or not enriched or fortified or containing milk or other optional ingredients such as chopped vegetables, vegetable purees, milk, gluten, diastases, vitamins, coloring and flavorings, and up to two percent egg white. The pasta covered by the order is typically sold in the retail market, in fiberboard or cardboard cartons or polyethylene or polyethylene bags, of varying dimensions.

Excluded from the scope of the order are refrigerated, frozen, or canned pastas, as well as all forms of egg pasta, with the exception of non-egg dry pasta containing up to two percent egg white.

The merchandise under review is currently classifiable under subheading 1902.19.20 of the Harmonized Tariff Schedule of the United States (HTSUS). Although the HTSUS subheading is provided for convenience and customs purposes, our written description of the scope of the order is dispositive.

Analysis of Comments Received

All issues raised in this sunset review are addressed in the Issues and Decision Memorandum,¹¹ which is hereby adopted by this notice. The issues discussed in the Issues and Decision Memorandum are the likelihood of continuation or recurrence of a countervailable subsidy and the net countervailable subsidy likely to prevail if the order were revoked. The Issues and Decision Memorandum is a public document and is on file electronically via Enforcement and Compliance's Antidumping and Countervailing Duty Centralized Electronic Service System (ACCESS). ACCESS is available to registered users at http://access.trade.gov, and to all in the Central Records Unit, Room B8024, of the main Commerce building. In addition, a complete version of the Issues and Decision Memorandum can be accessed directly at http://enforcement.trade.gov/frn. The signed and electronic versions of the Issues and Decision Memorandum are identical in content.

¹¹ See Memorandum “Issues and Decision Memorandum for the Expedited Fourth Sunset Review of the Countervailing Duty Order on Certain Pasta from Turkey,” dated concurrently with this notice (Issues and Decision Memorandum).

Final Results of Review

Pursuant to sections 751(c)(1) and 752(b) of the Act, Commerce determines that revocation of the CVD order on pasta from Turkey would be likely to lead to the continuation or recurrence of a countervailable subsidy at the rates listed below:

Exporter/producer | Net countervailable subsidy rate (percent)
Filiz Gida Sanayi ve Ticaret (Filiz) | 1.73
Maktas Makarnacilik ve Ticaret (Maktas) | 13.19
Oba Makernacilik Sanayi ve Ticaret (Oba) | 13.18
All Others | 8.95

Notification to Interested Parties

This notice also serves as the only reminder to parties subject to administrative protective order (APO) of their responsibility concerning the destruction of proprietary information disclosed under APO in accordance with 19 CFR 351.305. Timely written notification of the return or destruction of APO materials or conversion to judicial protective order is hereby requested. Failure to comply with the regulations and terms of an APO is a sanctionable violation.

We are issuing and publishing these results in accordance with sections 751(c), 752(b), and 777(i)(1) of the Act and 19 CFR 351.218.

Dated: November 28, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. History of the Order

III. Background

IV. Scope of the Order

1. Rulings Relevant to Scope

V. Discussion of the Issues

1. Likelihood of Continuation or Recurrence of a Countervailable Subsidy

2. Net Countervailable Subsidy Likely to Prevail

3. Nature of Subsidy

VI. Final Results of the Review

VII. Recommendation

[FR Doc. 2018-26430 Filed 12-4-18; 8:45 am]

BILLING CODE 3510-DS-P